FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
August 1, 2014 thru August 31, 2014
08/01/2014
20140944 | G | Akorn, Inc VPI Holdings Corp.; Akorn Inc.
08/04/2014
20141233 | G | Endo International plc; DAVA Pharmaceuticals, Inc.; Endo International plc.
20141239 | G | Man Group plc; Numeric Holdings LLC; Man Group plc.
20141262 | G | Pierpont Capital Holdings LLC; Amherst Holdings, LLC; Pierpont Capital Holdings LLC.
20141295 | G | American Midstream Partners, LP; Phillips 66; American Midstream Partners, LP.
20141296 | G | American Midstream Partners, LP; Spectra Energy Corp.; American Midstream Partners, LP.
20141298 | G | KKR Natural Resources I L.P.; KNR Trinity Holdings LLC; KKR Natural Resources I L.P.
20141299 | G | Blackstone Capital Partners VI-NQ/NF L.P.; CSP III AIV, L.P.; Blackstone Capital Partners VI-NQ/NF L.P.
20141300 | G | AECOM Technology Corporation; URS Corporation; AECOM Technology Corporation.
20141303 | G | GTCR Fund XI/B LP; Thermo Fisher Scientific Inc.; GTCR Fund XI/B LP.
20141318 | G | Drone Bidco Limited; UGL Limited; Drone Bidco Limited.
08/05/2014
20141289 | G | Block Communications, Inc.; Huron Communications, L.P.; Block Communications, Inc.
20141307 | G | Howard M. Lorber; Vector Group Ltd.; Howard M. Lorber.
20141315 | G | Whiting Petroleum Corporation; Kodiak Oil & Gas Corp.; Whiting Petroleum Corporation.
20141323 | G | Jarden Corporation; Rhone Offshore Partners II L.P.; Jarden Corporation.
08/06/2014
20141226 | G | Northwestern Memorial HealthCare; CDH-Delnor Health System; Northwestern Memorial HealthCare.
20141278 | G | Starboard Leaders Fund LP; Darden Restaurants, Inc.; Starboard Leaders Fund LP.
20141280 | G | JANA Offshore Partners, Ltd.; Apache Corporation; JANA Offshore Partners, Ltd.
20141281 | G | JANA Nirvana Offshore Fund, Ltd.; Apache Corporation; JANA Nirvana Offshore Fund, Ltd.
20141293 | G | ACI Worldwide, Inc.; RD Card Cayman One Ltd.; ACI Worldwide, Inc.
08/07/2014
20141308 | G | Informa plc; Arlington Capital Partners II, L.P.; Informa plc.
20141317 | G | Archer-Daniels-Midland Company; Dr. Hans-Peter Wild; Archer-Daniels-Midland Company.
08/08/2014
20141277 | G | Koch Industries, Inc. SPG Holdings LLC; Koch Industries, Inc.
20141330 | G | B&D Holding di Marco Drago e C.S.a.p.a.; International Game Technology: B&D Holding di Marco Drago e C.S.a.p.a.
20141331 | G | International Game Technology; B&D Holding di Marco Drago e C.S.a.p.a.; International Game Technology.
08/11/2014
20141154 | G | KeHE Distributors, Inc.; NB Holding Co.; KeHE Distributors, Inc.
20141332 | G | COFC0 Corporation; Nidera Capital B.V.; COFC0 Corporation.
20141333 | G | Warburg Pincus Private Equity XI, L.P.; Audax Private Equity Fund II, L.P.; Warburg Pincus Private Equity XI, L.P.
20141338 | G | Yaskawa Electric Corporation; Anita & James Worden; Yaskawa Electric Corporation.
20141342 | G | TPG VI DE AIV II, L.P.; MedTrak Services, L.L.C.; TPG VI DE AIV II, L.P.
20141343 | G | JR Shaw; Oak Hill Capital Partners III, L.P.; JR Shaw.
20141347 | G | Group 1 Automotive, Inc.; Ronald J. Heller; Group 1 Automotive, Inc.
20141349 | G | Nordstrom, Inc.; Trunk Club, Inc.; Nordstrom, Inc.
20141355 | G | Novartis AG; Google Inc.; Novartis AG.
20141358 | G | ATS Automation Tooling Systems Inc.; Millennium Privatstiftung; ATS Automation Tooling Systems Inc.
20141382 | G | Pfizer Inc.; InnoPharrna, Inc.; Pfizer Inc.
08/12/2014
20141320 | G | Gemalto N.V.; Vector SA Holdings, LLC; Gemalto N.V.
20141325 | G | Vulcan Materials Company; Lafarge S.A.; Vulcan Materials Company.
20141356 | G | Dagmar Dolby; Camille Rizko; Dagmar Dolby.
20141357 | G | OCP Trust; Document Technologies Holdings, LLC; OCP Trust.
20141363 | G | Bertelsmann Stiftung; SpotXchange, Inc.; Bertelsmann Stiftung.
08/13/2014
20141304 | G | Mr. Tak Cheung Yam; Mr. Malcolm Stevenson Forbes, Jr.; Mr. Tak Cheung Yam.
20141327 | G | Linden Capital Partners II, LP: Spear Education Holdings, LLC; Linden Capital Partners II, LP.
20141348 | G | Patrick James; KTRI Holdings, Inc.; Patrick James.
20141369 | G | Olympus Growth Fund VI, L.P.; Graham Partners II, L.P.; Olympus Growth Fund VI, L.P.
08/18/2014
20141301 | G | Salix Pharmaceuticals, Ltd.; Mauro Ajani: Salix Pharmaceuticals, Ltd.
20141354 | G | Alibaba Group Holding Limited; Kabam, Inc. Alibaba Group Holding Limited.
20141364 | G | Brentwood Associates Private Equity V, L.P.; ICV Partners II, L.P.; Brentwood Associates Private Equity V, L.P.
20141373 | G | Mr. Joshua E. Comstock; Nabors Industries Ltd.; Mr. Joshua E. Comstock.
20141374 | G | Siris Partners II, L.P.; Juniper Networks, Inc.; Siris Partners II, L.P.
20141375 | G | Ronald O. Perelman; Wayzata Opportunities Fund II, L.P.; Ronald O. Perelman.
20141380 | G | XPO Logistics, Inc.; Warburg Pincus Private Equity VIII, L.P.; XPO Logistics, Inc.
20141383 | G | Terry Taylor; Group 1 Automotive, Inc.; Terry Taylor.
20141385 | G | Riverside Micro-Cap Fund III, L.P.; Kathleen N. King; Riverside Micro-Cap Fund III, L.P.
20141390 | G | IFM Global Infrastructure Fund; FLIQ2 Holdings LLC; IFM Global Infrastructure Fund.
20141391 | G | Onex Partners III LP; York Insurance Acquisition, LLC; Onex Partners III LP.
20141394 | G | Breitburn Energy Partners L.P.; QR Energy, LP; Breitburn Energy Partners L.P.
20141397 | G | The Resolute Fund III, L.P.; Capstone Logistics, LLC; The Resolute Fund III. L.P.
20141399 | G | Mr. Norbert Dentressangle; JHCI Holdings, Inc.; Mr. Norbert Dentressangle.
20141400 | G | Granite Holdings, Inc.; Waste Management, Inc.; Granite Holdings, Inc.
08/19/2014
20141309 | G | Yahoo! Inc.; Flurry, Inc.; Yahoo! Inc.
20141319 | G | NN, Inc.; John C. Kennedy III; NN, Inc.
20141351 | G | PGT, Inc.; Cortec Group Fund IV, L.P.; PGT, Inc.
20141384 | G | Scientific Games Corporation; Bally Technologies, Inc.; Scientific Games Corporation.
20141386 | G | Rocket Fuel Inc.; X Plus Two Solutions, Inc.; Rocket Fuel Inc.
08/21/2014
20141310 | G | Elliott International Limited; The Interpublic Group of Companies, Inc.; Elliott International Limited.
20141311 | G | Elliott Associates, L.P.; The Interpublic Group of Companies, Inc.; Elliott Associates, L.P.
20141341 | G | Wells Fargo & Company; MCP I (UELS), LP; Wells Fargo & Company.
20141413 | G | CCMP Capital Investors III, L.P.; Solvay S.A.; CCMP Capital Investors III, L.P.
08/22/2014
20141336 | G | Liberty Global plc; All3Media Holdings Limited; Liberty Global plc.
20141353 | G | Carlyle Partners VI, L.P.; Acosta Holdco, Inc.; Carlyle Partners VI, L.P.
20141365 | G | Trian Partners Strategic Investment Fund, L.P.; PepsiCo., Inc.; Trian Partners Strategic Investment Fund, L.P.
20141366 | Y | Trian Partners Strategic Investment Fund II, L.P.; PepsiCo, Inc.; Trian Partners Strategic Investment Fund II, L.P.
20141367 | G | Trian Partners, L.P.; PepsiCo, Inc.; Trian Partners, L.P.
20141368 | G | Trian Star Trust; PepsiCo, Inc.; Trian Star Trust.
20141381 | G | Eduardo Artau Gomez; Richard Machado Gonzalez & Norma Aecia Ortiz Colon; Eduardo Artau Gomez.
20141396 | G | White Mountains Insurance Group, Ltd.; VSS-Tranzact Holdings, LLC; White Mountains Insurance Group, Ltd.
20141404 | G | H&F Wand AIV I, L.P.; Palladium Equity Partners III, L.P.; H&F Wand AIV I, L.P.
20141406 | G | Advent Puma Acquisition Limited; lululemon athletica inc.; Advent Puma Acquisition Limited.
20141410 | G | Roadrunner Transportation Systems, Inc.; Platinum Equity Capital Laser Partners I; Roadrunner Transportation Systems, Inc.
20141414 | G | Rack Holdings LLC; Odyssey Investment Partners Fund III, LP; Rack Holdings LLC.
20141416 | G | Atlas Copco AB; Keith Jones; Atlas Copco AB.
20141425 | G | Merck & Co., Inc.; eCardio Diagnostics, LLC; Merck & Co., Inc.
20141426 | G | Kinder Morgan, Inc.; Kinder Morgan Energy Partners, L.P.; Kinder Morgan, Inc.
20141437 | G | Gannett Co., Inc.; Classified Ventures, LLC; Gannett Co., Inc.
08/25/2014
20141436 | G | Mexichem, S.A.B. de C.V.; CHS Private Equity V LP; Mexichem, S.A.B. de C.V.
08/26/2014
20141420 | G | Treasury Group Limited; Aurora Trust; Treasury Group Limited.
20141428 | G | Evercore Partners, Inc.; Edward S. Hyman; Evercore Partners, Inc.
20141429 | G | Daiichi Sankyo Company, Limited; Charleston Laboratories, Inc.; Daiichi Sankyo Company, Limited.
08/27/2014
20141324 | G | Tyson 2009 Family Trust c/o Chuck Erwin, Trustee; The Hillshire Brands Company; Tyson 2009 Family Trust c/o Chuck Erwin, Trustee.
20141326 | G | Oracle Corporation; TOA Technologies, Inc.; Oracle Corporation.
20141372 | G | Heartland Payment Systems, Inc.; Gerhard J. Kuti; Heartland Payment Systems, Inc.
08/28/2014
20140883 | S | Prestige Brands Holdings, Inc.; Insight Pharmaceuticals Corporation; Prestige Brands Holdings, Inc.
20141344 | G | Chocoladefabriken Lindt & Sprungli AG; Russell Stover Candies, Inc.; Chocoladefabriken Lindt & Sprungli AG.
20141345 | G | Chocoladefabriken Lindt & Sprungli AG; Whitman's Candies, Inc.; Chocoladefabriken Lindt & Sprungli AG.
08/29/2014
20141405 | G | Genstar Capital Partners V, L.P.; Symmetry' Medical Inc.; Genstar Capital Partners V, L.P.
20141407 | G | Mednax. Inc.; Baird Capital Partners IV Limited Partnership; Mednax, Inc.

FOR FURTHER INFORMATION CONTACT: Renee Chapman, Contact Representative, or Theresa Kingsberry, Legal Assistant, Federal Trade Commission, Premerger Notification Office, Bureau of Competition, Room Cc-5301, Washington, DC 20024, (202) 326-3100.

By Direction of the Commission.
Donald S. Clark,
Secretary.

[FR Doc. 2014-21970 Filed 9-15-14; 8:45 am]

BILLING CODE 6750-01-M